COMMITTEE FOR PURCHASE FROM PEOPLE WHO ARE BLIND OR SEVERELY DISABLED

Clarification of Scope of Procurement List Additions; 2007 Commodities Procurement List; Quarterly Update of the A-List and Movement of Products Between the A-List, B-List and C-List

AGENCY: Committee for Purchase From People Who Are Blind or Severely Disabled.

ACTION: Publication of the quarterly update of the A-list and movement of products between the A-list, B-list and C-list as of October 1, 2007.

SUMMARY: The Committee for Purchase From People Who Are Blind or Severely Disabled, in accordance with the procedures published on December 1, 2006 (71 FR 69535-69538), has updated the scope of the Program's procurement preference requirements for the products listed below between and among the Committee's A-list, B-list and C-list. A-list products are suitable for the Total Government Requirement as aggregated by the General Services Administration, the B-list are those products suitable for the Broad Government Requirement as aggregated by the General Services Administration, and C-list products are suitable for the requirements of one or more specified agency(ies). The lists below track changes to A-, B-, C-designations that occurred between June 1, 2007 and August 31, 2007. If not currently available, the products listed below as being included on the A-list will be available for purchase through the GSA Global Supply system and JWOD-authorized commercial distributors on or about October 1, 2007.

DATES: The effective date for the quarterly update of the A-list and movement of products between and among the A-list, B-list and C-list is October 1, 2007.

ADDRESSES: Committee for Purchase From People Who Are Blind or Severely Disabled, Jefferson Plaza 2, Suite 10800, 1421 Jefferson Davis Highway, Arlington, Virginia 22202-3259.

FOR FURTHER INFORMATION CONTACT: Emily A. Covey, Telephone: (703) 603-7740, Fax: (703) 603-0655, or e-mail cmtefedreg@jwod.gov.

Products moved from B-list to A-list: None.

Products moved from C-list to A-list:

Bag, Trash, Coreless Roll

8105-00-NIB-1240

8105-00-NIB-1241

8105-00-NIB-1242

8105-00-NIB-1243

Products moved from A-list to B-list None.

Products moved from A-list to C-list: None.

Products moved from B-list to C-list: None.

Products moved from C-list to B-list: None.

The complete A-list is available at http://www.jwod.gov/jwod/p_and_s/alist2007.htm.

Kimberly M. Zeich,
Director, Program Operations.

[FR Doc. E7-17323 Filed 8-30-07; 8:45 am]

BILLING CODE 6353-01-P